SECURITIES AND EXCHANGE COMMISSION

[Release No. 34-44658; File No. SR-NYSE-2001-12]

Self Regulatory Organizations; New York Stock Exchange; Order Granting Approval to Proposed Rule Change Amending Sections 102.01C, 103.01B, and 802.01C of the Listed Company Manual and NYSE Rule 499

August 6, 2001.

On May 17, 2001, the New York Stock Exchange, Inc. (“NYSE”) filed with the Securities and Exchange Commission (“Commission”), pursuant to Section 19(b)(1) of the securities Exchange Act of 1934 (“Act”) ¹ and Rule 19b-4 thereunder,² a proposed rule change to amend sections 102.01C and 103.01B of the Listed Company Manual to align the cash flow revenue original listing standard with that of the global market capitalization standard. The proposed rule change would also amend section 802.01C of the Listed Company Manual and NYSE Rule 499 to require a press release announcement when a company is notified it is below the $1.00 price standard.

¹ 15 U.S.C. 78s(b)(1).

² 17 CFR 240.19b-4.

The proposed rule change was published for comment in the Federal Register on July 6, 2001.³ The Commission received no comments on the proposal.

³ See Securities Exchange Act Release No. 44484 (June 28, 2001), 66 FR 35686.

The Commission finds that the proposed rule change is consistent with the requirements of the Act and the rules and regulations thereunder applicable to a national securities exchange ⁴ and, in particular, the requirements of Section 6 of the Act ⁵ and the rules and regulations thereunder. The Commission finds specifically that the proposed rule change is consistent with Section 6(b)(5) of the Act ⁶ because it is designed to promote just and equitable principles of trade, to remove impediments to, and perfect the mechanism of a free and open market and, in general, to protect investors and the public interest. The proposal, which will align the cash flow revenue original listing standard with the global market capitalization standard, should continue to allow the Exchange to list companies that the Exchange believes will prove to be financially successful in the future, although recently they may not have been as profitable. The Commission also believes that the press release requirement for companies that are below criteria by reason of their share price is consistent with the Act, because it improves investor access to information. The Exchange already requires companies falling below the Exchange's other financial continued listing criteria related to market capitalization and shareholder's equity to put out a press release after notification by the Exchange.⁷

⁴ In approving this proposed rule change, the Commission notes that it has considered the proposed rule's impact on efficiency, competition, and capital formation. 15 U.S.C. 78c(f).

⁵ 15 U.S.C. 78f.

⁶ 15 U.S.C. 78f(b)(5).

⁷ See Listed Company Manual sections 802.02 and 802.03.

It is Therefore Ordered, pursuant to Section 19(b)(2) of the Act ⁸, that the proposed rule change (SR-NYSE-2001-12) be, and it hereby is, approved.

⁸ 15 U.S.C. 78s(b)(2).

For the Commission, by the Division of Market Regulation, pursuant to delegated authority.⁹
⁹ 17 CFR 200.30-3(a)(12).
Margaret H. McFarland,
Deputy Secretary.

[FR Doc. 01-20182 Filed 8-10-01; 8:45 am]

BILLING CODE 8010-01-M